DEPARTMENT OF ENERGY

10 CFR Part 420

RIN 1930-AA01

Mandatory Transmission and Distribution Planning Support Activities

AGENCY: Office of State and Community Energy Programs, State Energy Program, Department of Energy.

ACTION: Final rule.

SUMMARY: The U.S. Department of Energy (DOE) published an interim final rule on April 29, 2024, that amends the State Energy Program (SEP) regulations to incorporate certain changes made to the DOE-administered formula grant program by the Infrastructure Investment and Jobs Act of 2021. DOE is adopting the interim final rule as final without changes.

DATES: This rule is effective on December 12, 2024.

FOR FURTHER INFORMATION CONTACT: Ari Gerstman, U.S. Department of Energy, Office of State and Community Energy Programs, State Energy Program, SCEP-30; 1000 Independence Avenue SW, Washington, DC 20585-0121; or Telephone: (240) 388-5805; or Email: ari.gerstman@hq.doe.gov.

SUPPLEMENTARY INFORMATION:

I. Authority and Background

The U.S. Department of Energy's State Energy Program provides financial assistance in the form of formula grants to States, U.S. territories, and the District of Columbia (hereinafter referred to as States) ¹ for a wide variety of energy efficiency and renewable energy initiatives authorized under the Energy Policy and Conservation Act (EPCA) (Pub. L. 94-163), as amended. 42 U.S.C. 6321 et seq. Section 40109(a)(3) of the Infrastructure Investment and Jobs Act (IIJA 2021) (Pub. L. 117-58) amended Section 362(c) of EPCA, which pertains to the mandatory features of State energy conservation plans. 42 U.S.C. 6322(c). The submission of such plans is required for a State's participation in SEP and receipt of a formula grant.

¹ Per 10 CFR 420.2, “state” means a State, the District of Columbia, Puerto Rico, or any territory or possession of the United States.

II. Discussion

On April 29, 2024, DOE issued an interim final rule that amended SEP regulations in part 420 of title 10 of the Code of Federal Regulations to incorporate the IIJA 2021 amendments. 89 FR 33194. As discussed in the interim final rule, section 40109 of IIJA 2021 amended section 362(c) of EPCA to include a new paragraph (7) that mandates the inclusion of transmission and distribution planning support activities into States' energy conservation plans.² 42 U.S.C. 6322(c). DOE amended 10 CFR 420.15 to include a new paragraph (g) adopting statutory requirement verbatim. DOE also revised the reference to the EPCA included in the 10 CFR part 420 authority line from Part D to Part B through the interim final rule.

² The mandatory plan features include “the mandatory conduct of activities to support transmission and distribution planning, including—(A) support for local governments and Indian Tribes; (B) feasibility studies for transmission line routes and alternatives; (C) preparation of necessary project design and permits; and (D) outreach to affected stakeholders.” 42 U.S.C. 6322(c)(7).

DOE issued the interim final rule without prior notice and opportunity for public comment for two reasons. First, because the Administrative Procedure Act's (APA) requirements for notice and public comment do not apply “to the extent that there is involved . . . a matter related to agency . . . grants, benefits, or contracts.” 5 U.S.C. 553(a)(2), emphasis added. SEP is a program that provides formula and competitive grants, as well as technical assistance to States to enhance energy security, advance State-led energy initiatives, and increase energy affordability.

Second, the rulemaking covered a nondiscretionary action because DOE adopted the section 40109(a)(3) of IIJA 2021 amendment without further substantive change in SEP's regulations. A more comprehensive discussion is available in section II of the interim final rule.

In response to the interim final rule, SEP received no comments. Because DOE did not receive any comments in response to the interim final rule, the interim final rule is adopted as final without change. For the reasons stated in this document, SEP is finalizing the interim final rule without change.

III. Procedural Requirements

A. Review Under Executive Orders 12866, 13563, and 14094

This final rule has been determined not to be a “significant regulatory action” under E.O. 12866, Regulatory Planning and Review, 58 FR 51735 (October 4, 1993) as supplemented and reaffirmed by E.O. 13563, “Improving Regulation and Regulatory Review,” 76 FR 3821 (January 21, 2011) and amended by E.O. 14094, “Modernizing Regulatory Review,” 88 FR 21879 (April 11, 2023). Accordingly, this rule was not subject to review under the E.O. by the Office of Information and Regulatory Affairs (OIRA) within the Office of Management and Budget (OMB).

B. Administrative Procedure Act

The APA, 5 U.S.C. 551 et seq., generally requires public notice and an opportunity for comment before a rule becomes effective. 5 U.S.C. 553(b)-(c). However, the APA provides that the requirements of 5 U.S.C. 553 do not apply “to the extent that there is involved . . . a matter relating to agency . . . grants, benefits, or contracts.” The interim final rule amended SEP's regulations to include the new mandatory State energy conservation plan features established by section 40109(a) of the IIJA 2021, which amended SEP's State energy conservation plan requirements. States applying for SEP grants are required to submit plans that consider these, and the other mandatory features established in statute and codified in SEP's regulations. Because the rulemaking amended SEP's regulations at 10 CFR 420.15 to include features States must satisfy to receive a grant from SEP, the APA's general notice and comment requirements do not apply.

C. Congressional Notification

As required by 5 U.S.C. 801, DOE will report to Congress on the promulgation of this rule prior to its effective date. The report will state that it has been determined that the rule is not a “major rule” as defined by 5 U.S.C. 804(2).

III. Approval of the Office of the Secretary

The Secretary of Energy has approved publication of this final rule.

List of Subjects in 10 CFR Part 420

Energy conservation, Grant programs—energy, Technical assistance.

Signing Authority

This document of the Department of Energy was signed on December 5, 2024, by David Crane, Under Secretary for Infrastructure, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 6, 2024.
Treena V. Garrett,
Federal Register Liaison Officer, U.S. Department of Energy.

PART 420—STATE ENERGY PROGRAM

Accordingly, the interim final rule amending 10 CFR 420.15, which was published at 89 FR 33194 on April 29, 2024, is adopted as final without change.

[FR Doc. 2024-29062 Filed 12-11-24; 8:45 am]

BILLING CODE 6450-01-P